DEPARTMENT OF ENERGY

Federal Energy Regulatory Commission

[Docket No. TX25-5-000]

Seattle City Light; Notice of Extension of Time

On June 3, 2025, Bonneville Power Administration (BPA) submitted a motion requesting from the Commission an extension of time until June 17, 2025, to answer the application filed by Seattle City Light in this proceeding on May 20, 2025. BPA represents that the requested extension of time to June 17, 2025, will permit BPA to answer the complex factual, policy and legal issues raised by Seattle City Light's application.

Upon consideration, notice is hereby given that BPA's requested extension of time is granted, and the deadline for filing the response to the Seattle City Light's application is hereby extended to and including June 17, 2025.

Dated: June 9, 2025.
Debbie-Anne A. Reese,
Secretary.

[FR Doc. 2025-10794 Filed 6-12-25; 8:45 am]

BILLING CODE 6717-01-P